DEPARTMENT OF TRANSPORTATION

Office of the Secretary

Application of Scott Air, LLC for Certificate Authority

AGENCY: Department of Transportation.

ACTION: Notice of order to show cause (Order 2013-1-12), Docket DOT-OST-2012-0178.

SUMMARY: The Department of Transportation is directing all interested persons to show cause why it should not issue an order finding Scott Air, LLC fit, willing, and able, and awarding it a certificate of public convenience and necessity to engage in interstate scheduled air transportation of persons, property and mail.

DATES: Persons wishing to file objections should do so no later than February 1, 2013.

ADDRESSES: Objections and answers to objections should be filed in Docket DOT-OST-2012-0178 and addressed to U.S. Department of Transportation, Docket Operations, (W12-140), 1200 New Jersey Avenue SE., Washington, DC 20590, and should be served upon the parties listed in Attachment A to the order.

FOR FURTHER INFORMATION CONTACT: Catherine J. OToole, Air Carrier Fitness Division (X-56), U.S. Department of Transportation, 1200 New Jersey Avenue SE., Washington, DC 20590, (202) 366-9721.

Dated: January 18, 2013.
Susan L. Kurland,
Assistant Secretary for Aviation and International Affairs.

[FR Doc. 2013-01711 Filed 1-25-13; 8:45 am]

BILLING CODE P